DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The SDN List and additional information concerning OFAC sanctions programs are available on OFAC's website (https://www.treasury.gov/ofac).

Notice of OFAC Actions

On December 6, 2023, OFAC determined that the property and interests in property subject to U.S. jurisdiction of the following persons are blocked under the relevant sanctions authority listed below.

Individuals

1. ALEMAN MEZA, Oscar, Mexico; DOB 17 Apr 1962; POB Sinaloa, Mexico; nationality Mexico; Gender Male; C.U.R.P. AEMO620417HSLLZS07 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

2. BASTIDAS ERENAS, Juan Pablo (a.k.a. “PAYO”), Mexico; DOB 11 Mar 1980; POB Sinaloa, Mexico; nationality Mexico; Gender Male; C.U.R.P. BAEJ800311HSLSRN16 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

3. BELTRAN ARAUJO, Amberto, Mexico; DOB 12 Dec 1988; POB Sinaloa, Mexico; nationality Mexico; Gender Male; C.U.R.P. BEAA881212HSLLRM08 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

4. BELTRAN ARAUJO, Mario German (a.k.a. “EL NINON”), Mexico; DOB 14 May 1992; POB Sonora, Mexico; nationality Mexico; Gender Male; C.U.R.P. BEAM920514HSRLRR03 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

5. CARO MONGE, Jesus Jose Gil (a.k.a. “KIKIL”), Mexico; DOB 20 Jun 1991; POB Jalisco, Mexico; nationality Mexico; Gender Male; C.U.R.P. CAMJ910620HJCRNS02 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

6. CARO QUINTERO, Jose Gil, Mexico; DOB 07 Feb 1968; POB Sinaloa, Mexico; nationality Mexico; Gender Male; C.U.R.P. CAQG680207HSLRNL09 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

7. ESTEVEZ COLMENARES, Ricardo (a.k.a. SOTO RODRIGUEZ, Bogar; a.k.a. “LOCO”; a.k.a. “TIO”), Mexico; DOB 14 Sep 1974; POB Guerrero, Mexico; nationality Mexico; Gender Male; C.U.R.P. EECR740914HGRSLC02 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

8. ESTRADA GUTIERREZ, Jose de Jesus (a.k.a. ESTRADA GUTIERREZ, Josue de Jesus), Mexico; DOB 17 Nov 1968; POB Jalisco, Mexico; nationality Mexico; Gender Male; C.U.R.P. EAGJ681117HJCSTS00 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

9. FLORES ORTIZ, Francisco Abraham (a.k.a. “PANCHITO”), Mexico; DOB 13 Aug 1977; POB Sinaloa, Mexico; nationality Mexico; Gender Male; C.U.R.P. FOOF770813HSLLRR00 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

10. FRANCO FIGUEROA, Ulises (a.k.a. “CHARCO”), Mexico; DOB 17 Jun 1987; POB Oaxaca, Mexico; nationality Mexico; Gender Male; C.U.R.P. FAFU870617HOCRGL03 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

11. GASTELUM IRIBE, Oscar Manuel (a.k.a. “EL MUSICO”; a.k.a. “SALGADO”), Monte Rosa #657, Colonia Montebello, Culiacan, Sinaloa 80227, Mexico; Rio de la Plata #3041, Colonia Lomas del Boulevard, Culiacan, Sinaloa 80110, Mexico; Antonio Palafox #1856 Int 42, Colonia Paseos del Sol, Zapopan, Jalisco, Mexico; DOB 05 Oct 1974; POB Jalisco, Mexico; nationality Mexico; RFC GAI0741005TQ3 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

12. INZUNZA NORIEGA, Pedro, Mexico; DOB 24 Nov 1962; POB Sinaloa, Mexico; nationality Mexico; Gender Male; C.U.R.P. IUNP621124HSLNRD01 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

13. LEON RODRIGUEZ, Juvenal (a.k.a. “GALLO”), Mexico; DOB 01 Sep 1976; POB Guanajuato, Mexico; nationality Mexico; Gender Male; C.U.R.P. LERJ760901HGTNDV06 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

14. LOPEZ LOPEZ, Servando (a.k.a. “EL HUEVO”), Mexico; DOB 17 Sep 1974; POB Sinaloa, Mexico; nationality Mexico; Gender Male; C.U.R.P. LOLS740917HSLPPR01 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

15. PULIDO DIAZ, Oscar, Mexico; DOB 14 Apr 1976; POB Guerrero, Mexico; nationality Mexico; Gender Male; C.U.R.P. PUDO760414HGRLZS04 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

Entities

1. DIFACULSA, S.A. DE C.V., Villa Dorada 3996, Fracc. Los Portales, Culiacan, Sinaloa, Mexico; Organization Established Date 25 Feb 2006; Organization Type: Retail sale of pharmaceutical and medical goods, cosmetic and toilet articles in specialized stores; Folio Mercantil No. 75487 (Mexico) [ILLICIT-DRUGS-EO14059].

Designated pursuant to section 1(b)(iii) of E.O. 14059 for being owned, controlled, or directed by, or having acted or purported to act for or on behalf of, directly or indirectly, a person sanctioned pursuant to E.O. 14059.

2. EDITORIAL MERCADO ECUESTRE, S.A. DE C.V., Guadalajara, Jalisco, Mexico; Organization Established Date 11 Jan 2005; Organization Type: Publishing of newspapers, journals and periodicals; Folio Mercantil No. 28481 (Mexico) [ILLICIT-DRUGS-EO14059].

Designated pursuant to section 1(b)(iii) of E.O. 14059 for being owned, controlled, or directed by, or having acted or purported to act for or on behalf of, directly or indirectly, a person sanctioned pursuant to E.O. 14059.

Dated: December 6, 2023.
Bradley T. Smith,
Director, Office of Foreign Assets Control, U.S. Department of the Treasury.

[FR Doc. 2023-27646 Filed 12-14-23; 8:45 am]

BILLING CODE 4810-AL-P